DEPARTMENT OF ENERGY

Federal Energy Regulatory Commission

[Project No. 12178-000]

Verdant Power LLC; Notice of Declaration of Intent and Petition for Relief Filing and Soliciting Comments

February 11, 2005.

Take notice that the following declaration of intent and petition for relief from the requirements of hydropower licensing has been filed with the Commission and is available for public inspection.

a. Type of Filing: Declaration of intent and petition for relief.

b. Project No.: 12178-000.

c. Date Filed: February 2, 2005.

d. Applicant: Verdant Power LLC.

e. Name of Project: Roosevelt Island Tidal Energy Study Project.

f. Location: In the East channel of the East River, in New York City, New York. The project would not occupy Federal lands.

g. Filed Pursuant to: 18 Code of Federal Regulations part 24, section 24.1.

h. Applicant Contact: Mr. Ronald F. Smith, Chairman and Chief Operating Officer, 4640 13th Street, Arlington, VA 22207 (703) 528-6445.

i. FERC Contact: Tom Dean at (202) 502-6041, thomas.dean@ferc.gov.

j. Deadline for filing comments: 30 days from the issuance date of this notice.

All documents (original and eight copies) should be filed with: Magalie R. Salas, Secretary, Federal Energy Regulatory Commission, 888 First Street, NE., Washington, DC 20426. Documents may be filed electronically via the Internet in lieu of paper. The Commission strongly encourages electronic filings. See 18 CFR 385.2001(a)(1)(iii) and the instructions on the Commission's Web site (http://www.ferc.gov) under the “eFiling” link.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Description of Project: Verdant intends to deploy, for study purposes, a temporary (18-month), underwater kinetic hydropower array that would be located near New York City in the East River. The experimental project would consist of: (1) Six turbines consisting of: (a) A 5-meter-diameter, 3-bladed rotor mounted on; (b) a 30-inch-diameter, 7-foot-long nacelle or enclosed shelter mounted to; (c) a 9-foot-long vertical pylon that contains a yaw bearing mounted on top of; (d) a 24-inch-diameter, 5 or 6-feet-high pile extending above the river bottom; (2) six generating units with a combined capacity of up 200 kW; (3) an underwater power cable leading to a control room and connected via a generator controller and protective relay to two customer-side 480-volt service meters; and (4) appurtenant facilities.

l. Petition for Declaratory Intent: Verdant Power asked that it be allowed to install and operate the facilities listed above, and to deliver power from the project into the facilities of Consolidated Edison New York, for a test period of 18 months, without a license under Part I of the Federal Power Act. The 18-month deployment would provide information about project operation and identify potential affects on environment resources in the East River as part of Verdant Power's effort in preparing a license application for a fully-developed project. Such a project would consist of a series of “free-flowing” bi-directional submersible turbines totaling between 5 and 10 MW that would convert mechanical power from the tidal currents of the East River into electrical power without constructing a dam, reservoir, penstock, or powerhouse.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/esubsribenow.htm to be notified via e-mail of new filings and issuances related to this or other pending projects. For assistance, contact FERC Online Support. To view upcoming FERC events, go to http://www.ferc.gov and click on “View Entire Calendar”.

Magalie R. Salas,
Secretary.

[FR Doc. E5-676 Filed 2-17-05; 8:45 am]

BILLING CODE 6717-01-P